Memorandum of February 5, 2009

Appliance Efficiency Standards

Memorandum for the Secretary of Energy

Under the Energy Policy and Conservation Act of 1975 (EPCA), the Department of Energy (DOE) is required to establish by certain dates energy efficiency standards for a broad class of residential and commercial products. These products are appliances and other equipment used in consumers' homes and in commercial establishments. In the Energy Policy Act of 2005 (EPACT), the Congress directed the DOE to develop a plan to issue expeditiously efficiency standards for those products with respect to which the Department had not yet met the deadlines specified in the EPCA.

In 2005, 14 States and various other entities brought suit alleging that the DOE had failed to comply with deadlines and other requirements in the EPCA. In November 2006, the DOE entered into a consent decree under which the DOE agreed to publish final rules regarding 22 product categories by specific deadlines, the latest of which is June 30, 2011. The consent decree includes target dates for the rulemaking processes and sets deadlines for issuance of final rules with respect to each product category. The Energy Independence and Security Act of 2007 (EISA) directed the DOE to establish energy standards for additional product categories.

The DOE remains subject to outstanding deadlines with respect to 15 of the 22 product categories covered by the consent decree, as well as statutory deadlines for a number of additional product categories. These efficiency standards, once implemented, will result in significant energy savings for the American people.

Therefore, I request that:

(a) the DOE take all necessary steps, consistent with the consent decree, EPACT, and EISA, to finalize legally required efficiency standards as expeditiously as possible and consistent with all applicable judicial and statutory deadlines. Such standards include, most immediately, those covered by the five energy efficiency rules with deadlines prior to and including August 8, 2009;

(b) with respect to standards subject to judicial and statutory deadlines later than August 8, 2009, the DOE work to complete prior to the applicable deadline those standards that will result in the greatest energy savings. To undertake this task, the DOE should quantify, to the extent feasible and consistent with statutory requirements, the expected annual energy savings from the relevant standards. The DOE must, however, ensure that it meets applicable deadlines for all standards.

This memorandum is not intended to, and does not, create any right or benefit, substantive or procedural, enforceable at law or in equity by a party against the United States, its departments, agencies, or entities, its officers, employees, or agents, or any other person.

You are hereby authorized and directed to publish this memorandum in the Federal Register.

THE WHITE HOUSE,

Washington, February 5, 2009

[FR Doc. E9-2890

Filed 2-6-09; 12:00 pm]

Billing code 6450-01-P